DEPARTMENT OF THE INTERIOR

Fish and Wildlife Service

[Docket No. FWS-R7-ES-2014-0060; FF07CAMM00 FXES11130700000]

Draft Polar Bear Conservation Management Plan

AGENCY: Fish and Wildlife Service, Interior.

ACTION: Notice of extension of public comment period.

SUMMARY: The U.S. Fish and Wildlife Service gives notice that the comment period on the draft Polar Bear Conservation Management Plan will be extended an additional 30 days. Since we announced the availability of the draft plan, we have seen significant public interest and have received a request from the State of Alaska for an extension of time to allow for public input.

DATES: To ensure consideration of your comments in our preparation of the final plan, we must receive your comments and information by September 19, 2015.

ADDRESSES: Document availability: The draft Polar Bear Plan is available for viewing at http://www.fws.gov/alaska/pbrt/ or at www.regulations.gov at Docket No. FWS-R7-ES-2014-0060.

Comment submission: You may submit comments on the draft Polar Bear Plan by one of the following methods:

• U.S. mail or hand-delivery: Public Comments Processing, ATTN: FWS-R7-ES-2014-0060, U.S. Fish and Wildlife Service Headquarters, MS: BPHC, 5275 Leesburg Pike, Falls Church, VA 22041-3803; or

• Federal eRulemaking Portal: http://www.regulations.gov. Follow the instructions for submitting comments to Docket No. FWS-R7-ES-2014-0060.

Public Availability of Comments

Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: Mary Colligan, Chief, Marine Mammals Management, by telephone at 907-786-3800; by U.S. mail at Marine Mammals Management, U.S. Fish and Wildlife Service, 1011 East Tudor Road, Anchorage, AK 99503; or by email at mary_colligan@fws.gov. Persons who use a telecommunications device for the deaf (TDD) may call the Federal Information Relay Service (FIRS) at 800-877-8339.

SUPPLEMENTARY INFORMATION:

Background

In a final rule published in the Federal Register on May 15, 2008 (73 FR 28212), we, the U.S. Fish and Wildlife Service, listed the polar bear (Ursus maritimus) as a threatened species under the Endangered Species Act of 1973, as amended (ESA) (16 U.S.C. 1531 et seq.). In the July 6, 2015, Federal Register (80 FR 38458), we announced the availability of a draft Polar Bear Conservation Management Plan, which is designed to meet the recovery requirements of the ESA as well as the conservation management goals of the Marine Mammal Protection Act (16 U.S.C. 1361 et seq.). We are currently soliciting public comment on this draft plan.

Since we announced the availability of the draft plan, we have seen significant public interest and have received a request from the State of Alaska for an extension of time to allow for public input. Providing additional time for full consideration of the objectives for conserving the polar bear is important to our overall management effort. Therefore, we extend the current 45-day comment period by an additional 30 days. All comments received by the date specified in DATES will be considered prior to approval of this plan.

For a description of the polar bear, taxonomy, distribution, status, breeding biology and habitat, and a summary of factors affecting the species, please see the final listing rule (73 FR 28212, May 15, 2008). For information regarding the draft plan, please see the July 6, 2015, notice of availability (80 FR 38458).

Authority

We publish this notice under ESA section 4(f) (16 U.S.C. 1533(f).

Dated: July 31, 2015.
Karen P. Clark,
Acting Regional Director, Alaska Region, U.S. Fish and Wildlife Service.

[FR Doc. 2015-20059 Filed 8-13-15; 8:45 am]

BILLING CODE 4310-55-P